DEPARTMENT OF ENERGY

Federal Energy Regulatory Commission

Combined Notice of Filings

Take notice that the Commission has received the following Natural Gas Pipeline Rate and Refund Report filings:

Filings Instituting Proceedings

Docket Numbers: RP17-848-000.

Applicants: Midcontinent Express Pipeline LLC.

Description: Motion Filing: Motion in RP17-848 to be effective 1/1/2018.

Filed Date: 12/28/17.

Accession Number: 20171228-5241.

Comments Due: 5 p.m. ET 1/9/18.

Docket Numbers: RP18-282-000.

Applicants: Florida Gas Transmission Company, LLC.

Description: Compliance filing Annual Accounting Report filed on 12-28-17 to be effective N/A.

Filed Date: 12/28/17.

Accession Number: 20171228-5051.

Comments Due: 5 p.m. ET 1/9/18.

Docket Numbers: RP18-283-000.

Applicants: Columbia Gulf Transmission, LLC.

Description: Penalty Revenue Crediting Report of Columbia Gulf Transmission, LLC under RP18-283.

Filed Date: 12/28/17.

Accession Number: 20171228-5092.

Comments Due: 5 p.m. ET 1/9/18.

Docket Numbers: RP18-284-000.

Applicants: Crossroads Pipeline Company.

Description: Penalty Revenue Crediting Report of Crossroads Pipeline Company under RP18-284.

Filed Date: 12/28/17.

Accession Number: 20171228-5174.

Comments Due: 5 p.m. ET 1/9/18.

Docket Numbers: RP18-285-000.

Applicants: Central Kentucky Transmission Company.

Description: Penalty Revenue Crediting Report of Central Kentucky Transmission Company under RP18-285.

Filed Date: 12/28/17.

Accession Number: 20171228-5177.

Comments Due: 5 p.m. ET 1/9/18.

Docket Numbers: RP18-286-000.

Applicants: Columbia Gas Transmission, LLC.

Description: Penalty Revenue Crediting Report of Columbia Gas Transmission, LLC under RP18-286.

Filed Date: 12/28/17.

Accession Number: 20171228-5178.

Comments Due: 5 p.m. ET 1/9/18.

Docket Numbers: RP18-287-000.

Applicants: Transcontinental Gas Pipe Line Company.

Description: § 4(d) Rate Filing: Negotiated Rates—Cherokee AGL—Replacement Shippers—Jan 2018 to be effective 1/1/2018.

Filed Date: 12/28/17.

Accession Number: 20171228-5185.

Comments Due: 5 p.m. ET 1/9/18.

Docket Numbers: RP18-288-000.

Applicants: Rockies Express Pipeline LLC.

Description: § 4(d) Rate Filing: Neg Rate 2017-12-28 ConocoPhillips to be effective 12/28/2017.

Filed Date: 12/28/17.

Accession Number: 20171228-5201.

Comments Due: 5 p.m. ET 1/9/18.

Docket Numbers: RP18-289-000.

Applicants: Texas Eastern Transmission, LP.

Description: § 4(d) Rate Filing: EPC FEB 2018 FILING to be effective 2/1/2018.

Filed Date: 12/28/17.

Accession Number: 20171228-5208.

Comments Due: 5 p.m. ET 1/9/18.

Docket Numbers: RP18-290-000.

Applicants: Kern River Gas Transmission Company.

Description: § 4(d) Rate Filing: 2018 January Negotiated Rate Agreements to be effective 1/1/2018.

Filed Date: 12/28/17.

Accession Number: 20171228-5240.

Comments Due: 5 p.m. ET 1/9/18.

Docket Numbers: RP18-291-000.

Applicants: Florida Gas Transmission Company, LLC.

Description: § 4(d) Rate Filing: Negotiated Rates Filing on 12-28-17 to be effective 1/1/2018.

Filed Date: 12/28/17.

Accession Number: 20171228-5253.

Comments Due: 5 p.m. ET 1/9/18.

Docket Numbers: RP18-292-000.

Applicants: El Paso Natural Gas Company, L.L.C.

Description: § 4(d) Rate Filing: DART Conversion Merger Filing to be effective 1/29/2018.

Filed Date: 12/28/17.

Accession Number: 20171228-5263.

Comments Due: 5 p.m. ET 1/9/18.

Docket Numbers: RP18-293-000.

Applicants: El Paso Natural Gas Company, L.L.C.

Description: § 4(d) Rate Filing: Non-Conforming Negotiated Rate Agreement Update (Pioneer) to be effective 2/1/2018.

Filed Date: 12/28/17.

Accession Number: 20171228-5267.

Comments Due: 5 p.m. ET 1/9/18.

Docket Numbers: RP18-294-000.

Applicants: Algonquin Gas Transmission, LLC.

Description: Algonquin Gas Transmission, LLC submits tariff filing per 154.204: Negotiated Rates—BP 511026 eff 1-1-2018 to be effective 1/1/2018.

Filed Date: 12/29/2017.

Accession Number: 20171229-5001.

Comment Date: 5:00 p.m. Eastern Time on Wednesday, January 10, 2018.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2017.
Nathaniel J. Davis Sr.,
Deputy Secretary.

[FR Doc. 2018-00125 Filed 1-5-18; 8:45 am]

BILLING CODE 6717-01-P